DEPARTMENT OF HEALTH AND HUMAN SERVICES

Office of the Secretary

[Document Identifier: HHS-OS-17339-60D]

Agency Information Collection Activities; Proposed Collection; Public Comment Request

ACTION: Notice.

SUMMARY: In compliance with section 3506(c)(2)(A) of the Paperwork Reduction Act of 1995, the Office of the Secretary (OS), Department of Health and Human Services, announces plans to submit an Information Collection Request (ICR), described below, to the Office of Management and Budget. The ICR is for extending the use of the approved information collection assigned OMB control number 0990-0302 which expires on November 31, 2012. Prior to submitting that ICR to OMB, OS seeks comments from the public regarding the burden estimate, below, or any other aspect of the ICR. OS especially requests comments on (1) the necessity and utility of the proposed information collection for the proper performance of the agency's functions, (2) the accuracy of the estimated burden, (3) ways to enhance the quality, utility, and clarity of the information to be collected, and (4) the use of automated collection techniques or other forms of information technology to minimize the information collection burden.

Deadline: Comments on the ICR must be received within 60 days of the issuance of this notice.

ADDRESSES: Submit your comments, including the document identifier HHS-OS-17339-60D, to Information.CollectionClearance@hhs.gov or by calling (202) 690-6162.

Copies of the supporting statement and any related forms for the ICR may also be requested through the above email or telephone number.

Information Collection Request Title: Medical Reserve Corps Unit Profile and Reports

Abstract: Medical Reserve Corps (MRC) units are currently located in almost 1,000 communities across the United States, and represent a resource of more than 205,000 volunteers. In order to continue supporting the MRC units in communities across the United States, and to continue planning for future emergencies that are national in scope, detailed information about the MRC units, including unit demographics, contact information (regular and emergency), volunteer numbers, and information about activities is needed by the Division of Civilian Volunteer Medical Reserve Corps (DCVMRC) within the Office of the Secretary/Office of the Assistant Secretary for Health/Office of the Surgeon General. MRC Unit Leaders are asked to update this information on the MRC Web site at least quarterly, and to participate in a Technical Assistance Assessment at least annually. The MRC unit data collected has not changed. This OMB extension request is for 3 years.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden Hours
Type of respondent | Number of respondents | Number of responses per respondent | Average burden hours per response | Total burden hours
MRC Unit Leader | 1,000 | 6 | 1.0 | 6,000

Keith A. Tucker,
Information Collection Clearance Officer, Department of Health and Human Services.

[FR Doc. 2012-22824 Filed 9-14-12; 8:45 am]

BILLING CODE 4150-47-P